ENVIRONMENTAL PROTECTION AGENCY

[ER-FRL-9054-2]

Environmental Impact Statements; Notice of Availability

Responsible Agency: Office of Federal Activities, General Information 202-564-5632 or https://www.epa.gov/nepa.

Weekly receipt of Environmental Impact Statements (EIS)

Filed November 20, 2020 10 a.m. EST Through November 30, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200243, Final, BR, ND, Eastern North Dakota Alternate Water Supply Project, Review Period Ends: 01/04/2021, Contact: Damien Reinhart 701-221-1275.

EIS No. 20200244, Final, USAF, FL, F-35A Wing Beddown at Tyndall AFB and MQ-9 Wing Beddown at Tyndall AFB or Vandenberg AFB, Review Period Ends: 01/04/2021, Contact: Nolan Swick 210-925-3392.

EIS No. 20200245, Draft, BLM, NV, Robinson Mine Plan of Operations Amendment, Comment Period Ends: 01/19/2021, Contact: Tiera Arbogast 775-293-5042.

EIS No. 20200246, Final, BLM, AK, Bering Sea-Western Interior Proposed Resource Management Plan and Final Environmental Impact Statement, Review Period Ends: 01/04/2021, Contact: Jorjena Barringer 907-267-1246.

EIS No. 20200247, Final, USFWS, BLM, NV, Thacker Pass Lithium Mine Project, Review Period Ends: 01/04/2021, Contact: Ken Loda 775-623-1500.

EIS No. 20200248, Final, USFS, AZ, Fossil Creek Wild and Scenic River Comprehensive River Management Plan, Review Period Ends: 01/19/2021, Contact: Mike Dechter 928-527-3416.

Dated: November 30, 2020.
Cindy S. Barger,
Director, NEPA Compliance Division, Office of Federal Activities.

[FR Doc. 2020-26692 Filed 12-3-20; 8:45 am]

BILLING CODE 6560-50-P